DEPARTMENT OF ENERGY

Federal Energy Regulatory Commission

[ Docket No. CP12-455-000]

Pivotal Utility Holdings, Inc. d/b/a Elkton Gas; Notice of Application

Take notice that on May 4, 2012, Pivotal Utility Holdings, Inc. d/b/a Elkton Gas (Elkton Gas), 125 B East High Street, Elkton, Maryland 21921, filed an abbreviated application pursuant to Section 7(f) of the Natural Gas Act (NGA) and Part 157 of the Commission's Regulations seeking a service area determination to include 744 feet of pipe and appurtenant facilities extended from Maryland border into Delaware. Elkton Gas also requests: (i) A finding that Elkton Gas continues to qualify as a local distribution company (LDC) in Maryland, for purposes of section 311 of the Natural Gas Policy Act of 1978 (NGPA); and (ii) a waiver of the Commission's accounting and reporting requirements and other regulatory requirements ordinarily applicable to natural gas companies under the NGA and NGPA. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

In early 2012, Elkton Gas has determined that its Maryland LDC system includes 744 feet of pipe and appurtenant facilities crossing Maryland/Delaware border in order to reach a gate station owned and operated by Eastern Shore Natural Gas Company (Eastern Shore), known as the North Gate Station. Elkton Gas does not provide service in Delaware and is not subject to regulation by the Delaware Public Service Commission. Elkton Gas does not contemplate any changes in its operations as a result of this change in regulatory status. The purpose of owning facilities in Delaware is to bring gas to Maryland to serve Elkton Gas' customers in Maryland.

Any questions regarding this application should be directed to Shannon Pierce, Senior Counsel, AGL Resources Inc., Ten Peachtree Place, Suite 1000, Atlanta, GA 30309; phone number (404) 584-3394; or email: spierce@aglresources.com.

Any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: 5:00 p.m. Eastern Time on May 31, 2012.

Dated: May 10, 2012.
Kimberly D. Bose,
Secretary.

[FR Doc. 2012-11828 Filed 5-15-12; 8:45 am]

BILLING CODE 6717-01-P